DEPARTMENT OF ENERGY

Federal Energy Regulatory Commission

[Docket Nos. CP18-7-000: PF17-5-000]

Port Arthur Pipeline, LLC; Notice of Application

Take notice that on October 16, 2017, Port Arthur Pipeline, LLC (Port Arthur Pipeline), 2925 Briarpark, Suite 900, Houston, Texas 77042, pursuant to Section 7(c) of the NGA, and Parts 157 and 284 of the Commission's regulations, filed an application requesting a certificate of public convenience and necessity to construct, own, and operate its Louisiana Connector Project.

The Louisiana Connector Project consists of 131 miles of new 42-inch-diameter pipeline, a new 89,900 horsepower compressor station, interconnection facilities with interstate and intrastate natural gas facilities, and other appurtenant facilities. The Louisiana Connector Project is designed to deliver up to 2,000 million cubic feet (MMcf) per day of natural gas to the Liquefaction Project that is currently being developed by Port Arthur LNG, LLC and PALNG Common Facilities Company, LLC and is under review by the Commission in Docket No. CP17-20-000. The Louisiana Connector Project facilities will extend from an interconnect with Columbia Gas Transmission located northeast of Eunice, Louisiana in St. Landry Parish through Evangeline, Allen, Beauregard, Calcasieu, and Cameron Parishes in Louisiana and Orange and Jefferson Counties in Texas and terminate at the proposed Liquefaction Project south of Port Arthur in Jefferson County, Texas. The cost of the proposed project is $1,207,584,005, all as more fully set forth in the application which is on file with the Commission and open to public inspection. The filing is available for review at the Commission in the Public Reference Room or may be viewed on the Commission's Web site web at http://www.ferc.gov using the “eLibrary” link. Enter the docket number excluding the last three digits in the docket number field to access the document. For assistance, contact FERC at FERCOnlineSupport@ferc.gov or call toll-free, (886) 208-3676 or TYY, (202) 502-8659.

On March 13, 2017, the Commission staff granted Port Arthur Pipeline's request to utilize the Pre-Filing Process and assigned Docket No. PF17-5-000 to staff activities involved in the Louisiana Connector Project. Now, as of the filing of the October 16, 2017 application, the Pre-Filing Process for this project has ended. From this time forward, this proceeding will be conducted in Docket No. CP18-7-000, as noted in the caption of this Notice.

Any questions regarding this application should be directed to Jerrod L. Harrison, Senior Counsel, Port Arthur Pipeline, 488 8th Avenue, San Diego, CA 9210, by phone at (619) 696-2987, or by email to jharrison@sempraglobal.com.

Pursuant to section 157.9 of the Commission's rules, 18 CFR 157.9, within 90 days of this Notice, the Commission staff will issue a Notice of Schedule for Environmental Review. If a Notice of Schedule for Environmental Review is issued, it will indicate, among other milestones, the anticipated date for the Commission staff's issuance of the final environmental impact statement (FEIS) for this proposal. The issuance of a Notice of Schedule for Environmental Review will serve to notify federal and state agencies of the timing for the completion of all necessary reviews, and the subsequent need to complete all federal authorizations within 90 days of the date of issuance of the Commission staff's FEIS.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit five copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests and interventions in lieu of paper using the eFiling link at http://www.ferc.gov. Persons unable to file electronically should submit an original and five copies of the protest or intervention to the Federal Energy Regulatory Commission, 888 First Street NE., Washington, DC 20426.

Comment Date: 5:00 p.m. Eastern Time on November 20, 2017.

Dated: October 30, 2017.
Nathaniel J. Davis, Sr.,
Deputy Secretary.

[FR Doc. 2017-23940 Filed 11-2-17; 8:45 am]

BILLING CODE 6717-01-P